SMALL BUSINESS ADMINISTRATION

[Disaster Declaration # 10078 and # 10079]

Nevada Disaster # NV-00001

AGENCY: U.S. Small Business Administration.

ACTION: Notice.

SUMMARY: This is a notice of an Administrative declaration of a disaster for the State of Nevada, dated 03/15/2005.

Incident: Heavy Rains and Flooding.

Incident Period: 01/06/2005 through 01/13/2005.

Effective Date: 03/15/2005.

Physical Loan Application Deadline Date: 05/16/2005.

EIDL Loan Application Deadline Date: 12/15/2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416

SUPPLEMENTARY INFORMATION: Notice is hereby given that as a result of the Administrator's disaster declaration on 03/15/2005, applications for disaster loans may be filed at the address listed above or other locally announced locations.

The following areas have been determined to be adversely affected by the disaster:

Primary Counties: Clark

Contiguous Counties:

Nevada:

Lincoln,

Nye

Arizona:

Mohave.

California:

Inyo,

San Bernardino

The Interest Rates are:

| Percent
Homeowners With Credit Available Elsewhere | 5.875
Homeowners Without Credit Available Elsewhere | 2.937
Businesses With Credit Available Elsewhere | 5.800
Businesses & Small Agricultural Cooperatives Without Credit Available Elsewhere | 4.000
Other (Including Non-Profit Organizations) With Credit Available Elsewhere | 4.750
Businesses and Non-Profit Organizations Without Credit Available Elsewhere | 4.000

The number assigned to this disaster for physical damage is 10078 6 and for economic injury is 10079 0.

The States which received an EIDL Declaration # are Nevada, Arizona, and California.

(Catalog of Federal Domestic Assistance Numbers 59002 and 59008)
Dated: March 15, 2005.
Hector V. Barreto,
Administrator.

[FR Doc. 05-5684 Filed 3-22-05; 8:45 am]

BILLING CODE 8025-01-P